DEPARTMENT OF THE INTERIOR

National Park Service

[NPS-WASO-NAGPRA-13623; PPWOCRADN0-PCU00RP14.R50000]

Notice of Inventory Completion: U.S. Department of the Interior, National Park Service, San Juan Island National Historical Park, Friday Harbor, WA, and Thomas Burke Memorial Washington State Museum, University of Washington, Seattle, WA; Correction; Correction

AGENCY: National Park Service, Interior.

ACTION: Notice; correction.

SUMMARY: The U.S. Department of the Interior, National Park Service, San Juan Island National Historical Park has corrected an inventory of human remains and associated funerary objects, published in a corrected Notice of Inventory Completion in the Federal Register on March 12, 2009. This notice corrects the minimum number of individuals and number of associated funerary objects. Lineal descendants or representatives of any Indian tribe or Native Hawaiian organization not identified in this notice that wish to request transfer of control of these human remains and associated funerary objects should submit a written request to San Juan Island National Historical Park. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to San Juan Island National Historical Park at the address in this notice by September 16, 2013.

ADDRESSES: Lee Taylor, Superintendent, San Juan Island National Historical Park, P.O. Box 429, Friday Harbor, WA 98250, telephone (360) 378-2240, email lee_taylor@nps.gov.

SUPPLEMENTARY INFORMATION: Notice is here given in accordance with the Native American Graves Protection and Repatriation Act (NAGPRA), 25 U.S.C. 3003, of the correction of an inventory of human remains and associated funerary objects under the control of the U.S. Department of the Interior, National Park Service, San Juan Island National Historical Park, Friday Harbor, WA, and in the physical custody of the Thomas Burke Memorial Washington State Museum (Burke Museum), University of Washington, Seattle, WA. The human remains and associated funerary objects were removed from three prehistoric archeological sites within the boundaries of San Juan Island National Historical Park, San Juan County, WA.

This notice is published as part of the National Park Service's administrative responsibilities under NAGPRA, 25 U.S.C. 3003(d)(3). The determinations in this notice are the sole responsibility of the Superintendent, San Juan Island National Historical Park.

This notice corrects the minimum number of individuals and number of associated funerary objects published in a corrected Notice of Inventory Completion in the Federal Register (74 FR 10766-10767, March 12, 2009). During a review of faunal material in Burke Museum collections, additional human remains representing 42 individuals and 9 associated funerary objects were found. Transfer of control of the items in this correction notice has not occurred.

Correction

In the Federal Register (74 FR 10766-10767, March 12, 2009), paragraph five, sentence one is corrected by substituting the following sentence:

In 1946 and 1947, human remains representing a minimum of eight individuals were removed from the Cattle Point Site (45-SJ-01) on San Juan Island in San Juan County, WA, during legally authorized excavations by University of Washington archeologist Arden King.

In the Federal Register (74 FR 10766-10767, March 12, 2009), paragraph nine is corrected by substituting the following paragraph:

In 1970, 1971, and 1972, human remains representing a minimum of 36 individuals were removed from the English Camp Site in San Juan County, WA, during University of Idaho field schools directed by Dr. Roderick Sprague. The human remains and associated funerary objects were transferred to the Burke Museum and accessioned by the National Park Service. No known individuals were identified. The 60 associated funerary objects are 1 splinter awl made from deer bone, 1 tip of an antler tine, 1 square nail fragment, 1 wood fragment, 1 Horse Clam shell fragment, 6 basalt flakes, 47 non-human skeletal fragments and non-human teeth, and 2 bags of non-human bone.

In the Federal Register (74 FR 10766-10767, March 12, 2009), paragraph 10 is corrected by substituting the following paragraph:

Between 1984 and 1990, human remains representing a minimum of 14 individuals were removed from the English Camp Site in San Juan County, WA, during legally authorized excavations by Professor Julie Stein of the University of Washington. The human remains and associated funerary objects were transferred to the Burke Museum and accessioned by the National Park Service. No known individuals were identified. The 34 associated funerary objects are 28 non-human bone fragments, 1 miniature bone club, and 5 bags of non-human bone.

In the Federal Register (74 FR 10766-10767, March 12, 2009), paragraph 11, sentence 1 is corrected by substituting the following sentence:

In 1951, human remains representing a minimum of eight individuals were removed from the North Garrison Bay Site (45-SJ-25) in San Juan County, WA, during a summer field school in archeology under the direction of Professor Carroll Burroughs of the University of Washington.

In the Federal Register (74 FR 10766-10767, March 12, 2009), paragraph 12, sentence 1 is corrected by substituting the following sentence:

Based upon non-destructive osteological analysis, archeological data, geographic context and accession data, the 76 individuals from the four San Juan Island sites are of Native American ancestry.

In the Federal Register (74 FR 10766-10767, March 12, 2009), paragraph 14, sentences 1 and 2 are corrected by substituting the following sentences:

Officials of San Juan Island National Historical Park have determined that, pursuant to 25 U.S.C. 3001 (9-10), the human remains described above represent the physical remains of 76 individuals of Native American ancestry. Officials of San Juan Island National Historical Park also have determined that, pursuant to 25 U.S.C. 3001 (3)(A), the 143 associated funerary objects are reasonably believed to have been placed with or near individual human remains at the time of death or later as part of the death rite or ceremony.

Additional Requestors and Disposition

Lineal descendants or representatives of any Indian tribe or Native Hawaiian organization not identified in this notice that wish to request transfer of control of these human remains and associated funerary objects should submit a written request with information in support of the request to Lee Taylor, Superintendent, San Juan Island National Historical Park, P.O. Box 429, Friday Harbor, WA 98250, telephone (360) 378-2240, email lee_taylor@nps.gov, by September 16, 2013. After that date, if no additional requestors have come forward, transfer of control of the human remains and associated funerary objects to the Lummi Tribe of the Lummi Reservation may proceed.

San Juan Island National Historical Park is responsible for notifying the Lummi Tribe of the Lummi Reservation; Samish Indian Nation (previously listed as the Samish Indian Tribe, Washington); and Swinomish Indians of the Swinomish Reservation of Washington that this notice has been published.

Dated: July 24, 2013.
Sherry Hutt,
Manager, National NAGPRA Program.

[FR Doc. 2013-20045 Filed 8-15-13; 8:45 am]

BILLING CODE 4312-50-P